DEPARTMENT OF HOMELAND SECURITY

Federal Emergency Management Agency

[Docket ID FEMA-2023-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Alabama: Limestone (FEMA Docket No.: B-2341). | Unincorporated areas of Limestone County (22-04-5392P). | Collin Daly, Chair, Limestone County Commission, 310 West Washington Street, Athens, AL 35611. | Limestone County Engineering Department, 310 West Washington Street, Athens, AL 35611. | Jul. 21, 2023 | 010307
Arkansas:
Sebastian (FEMA Docket No.: B-2324). | City of Fort Smith (22-06-0574P). | Carl Geffken, City of Fort Smith Administrator, 623 Garrison Avenue, Room 315, Fort Smith, AR 72901. | City Hall, 623 Garrison Avenue, Fort Smith, AR 72901. | Jun. 28, 2023 | 055013
Sebastian (FEMA Docket No.: B-2324). | Unincorporated areas of Sebastian County, (22-06-0574P). | The Honorable Steve Hotz, Sebastian County Judge, 35 South 6th Street, Room 106, Fort Smith, AR 72901. | Sebastian County Courthouse, 35 South 6th Street, Fort Smith, AR 72901. | Jun. 28, 2023 | 050462
Colorado:
Arapahoe (FEMA Docket No.: B-2334). | City of Centennial, (21-08-1158P). | The Honorable Stephanie Piko, Mayor, City of Centennial, 13133 East Arapahoe Road, Centennial, CO 80112. | Southeast Metro Stormwater Authority, 7437 South Fairplay Street, Centennial, CO 80112. | Jul. 7, 2023 | 080315
Arapahoe (FEMA Docket No.: B-2334). | Unincorporated areas of Arapahoe County, (21-08-1158P). | The Honorable Carrie Warren-Gully, Chair, Arapahoe County Board of Commissioners, 5334 South Prince Street, Littleton, CO 80120. | Arapahoe County Public Works and Development Department, 6924 South Lima Street, Centennial, CO 80112. | Jul. 7, 2023 | 080011
Douglas (FEMA Docket No.: B-2334). | Town of Parker, (21-08-1158P). | The Honorable Jeff Toborg, Mayor, Town of Parker, 20120 East Main Street, Parker, CO 80138. | Public Works and Engineering Department, 20120 East Main Street, Parker, CO 80138. | Jul. 7, 2023 | 080310
Douglas (FEMA Docket No.: B-2334). | Unincorporated areas of Douglas County, (21-08-1158P). | The Honorable Abe Laydon, Chair, Douglas County Board of Commissioners, 100 3rd Street, Castle Rock, CO 80104. | Douglas County Public Works Department, Engineering Division, 100 3rd Street, Castle Rock, CO 80104. | Jul. 7, 2023 | 080049
Elbert (FEMA Docket No.: B-2324). | Town of Elizabeth, (22-08-0561P). | Patrick Davidson, Town of Elizabeth Administrator, P.O. Box 159, Elizabeth, CO 80107. | Town Hall, 321 South Banner Street, Elizabeth, CO 80107. | Jun. 30, 2023 | 080056
Elbert (FEMA Docket No.: B-2324). | Unincorporated areas of Elbert County, (22-08-0561P). | The Honorable Chris Richardson, Chair, Elbert County Board of Commissioners, P.O. Box 7, Kiowa, CO 80117. | Elbert County Government Building, 215 Comanche Street, Kiowa, CO 80117. | Jun. 30, 2023 | 080055
El Paso (FEMA Docket No.: B-2334). | City of Colorado Springs, (22-08-0112P). | The Honorable John Suthers, Mayor, City of Colorado Springs, 30 South Nevada Avenue, Colorado Springs, CO 80903. | City Hall, 30 South Nevada Avenue, Colorado Springs, CO 80903. | Jun. 12, 2023 | 080060
El Paso (FEMA Docket No.: B-2334). | City of Colorado Springs, (22-08-0120P). | The Honorable John Suthers, Mayor, City of Colorado Springs, 30 South Nevada Avenue, Colorado Springs, CO 80903. | Pikes Peak Regional Building Department, 2880 International Circle, Colorado Springs, CO 80910. | Jun. 16, 2023 | 080060
El Paso (FEMA Docket No.: B-2334). | City of Manitou Springs, (22-08-0120P). | The Honorable John Graham, Mayor, City of Manitou Springs, 606 Manitou Avenue, Manitou Springs, CO 80829. | Pikes Peak Regional Building Department, 2880 International Circle, Colorado Springs, CO 80910. | Jun. 16, 2023 | 080063
El Paso (FEMA Docket No.: B-2334). | Unincorporated areas of El Paso, (22-08-0112P). | Cami Bremer, Chair, El Paso County Board of Commissioners, 200 South Cascade Avenue, Suite 100, Colorado Springs, CO 80903. | Pikes Peak Regional Building Department, 2880 International Circle, Colorado Springs, CO 80910. | Jun. 12, 2023 | 080059
El Paso (FEMA Docket No.: B-2334). | Unincorporated areas of El Paso, (22-08-0120P). | Cami Bremer, Chair, El Paso County Board of Commissioners, 200 South Cascade Avenue, Suite 100, Colorado Springs, CO 80903. | Pikes Peak Regional Building Department, 2880 International Circle, Colorado Springs, CO 80910. | Jun. 16, 2023 | 080059
Jefferson (FEMA Docket No.: B-2334). | Unincorporated areas of Jefferson, (22-08-0273P). | Andy Kerr, Chair, Jefferson County Board of Commissioners, 100 Jefferson County Parkway, Suite 5550, Golden, CO 80419. | Jefferson County Planning and Zoning Division, 100 Jefferson County Parkway, Suite 3550, Golden, CO 80419. | Jun. 16, 2023 | 080087
Florida:
Charlotte (FEMA Docket No.: B-2324). | City of Punta Gorda, (22-04-4835P). | The Honorable Lynne Matthews, Mayor, City of Punta Gorda, 326 West Marion Avenue, Punta Gorda, FL 33950. | Building Department, 326 West Marion Avenue, Punta Gorda, FL 33950. | Jun. 30, 2023 | 120062
Charlotte (FEMA Docket No.: B-2334). | Unincorporated areas of Charlotte County, (22-04-5841P). | The Honorable Bill Truex, Chair, Charlotte County Board of Commissioners, 18500 Murdock Circle, Suite 536, Port Charlotte, FL 33948. | Charlotte County Building Department, 18400 Murdock Circle, Port Charlotte, FL 33948. | Jun. 16, 2023 | 120061
Collier (FEMA Docket No.: B-2335). | City of Naples, (22-04-5499P). | Jay Boodheshwar, Manager, City of Naples, 735 8th Street South, Naples, FL 34102. | Building Department, 295 Riverside Circle, Naples, FL 34102. | Jun. 12, 2023 | 125130
Monroe (FEMA Docket No.: B-2334). | Village of Islamorada, (23-04-0523P). | The Honorable Joseph Buddy Pinder III, Mayor, Village of Islamorada, 86800 Overseas Highway, Islamorada, FL 33036. | Building Department, 86800 Overseas Highway, Islamorada, FL 33036. | Jun. 15, 2023 | 120424
Polk (FEMA Docket No.: B-2324). | Unincorporated areas of Polk County, (22-04-2066P). | Bill Beasley, Polk County Manager, 330 West Church Street, Bartow, FL 33831. | Polk County Land Development Division, 330 West Church Street, Bartow, FL 33831. | Jun. 15, 2023 | 120261
Nevada: Clark (FEMA Docket No.: B-2334). | City of Henderson, (22-09-1748P). | Richard Derrick, Manager, City of Henderson, 240 South Water Street, Henderson, NV 89015. | City Hall, 240 South Water Street, Henderson, NV 89015. | Jul. 21, 2023 | 320005
Texas:
Bexar (FEMA Docket No.: B-2334). | City of San Antonio, (22-06-1471P). | The Honorable Ron Nirenberg, Mayor, City of San Antonio, P.O. Box 839966, San Antonio, TX 78283. | Transportation and Capital Improvements Department, Storm Water Division, 1901 South Alamo Street, 2nd Floor, San Antonio, TX 78204. | Jun. 12, 2023 | 480045
Bexar (FEMA Docket No.: B-2334). | City of San Antonio, (22-06-1722P). | The Honorable Ron Nirenberg, Mayor, City of San Antonio, P.O. Box 839966, San Antonio, TX 78283. | Transportation and Capital Improvements Department, Storm Water Division, 1901 South Alamo Street, 2nd Floor, San Antonio, TX 78204. | Jul. 3, 2023 | 480045
Bexar (FEMA Docket No.: B-2334). | Unincorporated areas of Bexar County, (22-06-1722P). | The Honorable Peter Sakai, Bexar County Judge, 101 West Nueva Street, 10th Floor, San Antonio, TX 78205. | Bexar County Public Works Department, 1948 Probandt Street, San Antonio, TX 78205. | Jul. 3, 2023 | 480035
Brazos (FEMA Docket No.: B-2324). | City of Bryan, (22-06-1930P). | The Honorable Bobby Gutierrez, Mayor, City of Bryan, P.O. Box 1000, Bryan, TX 77805. | City Hall, 300 South Texas Avenue, Bryan, TX 77803. | Jun. 28, 2023 | 480082
Collin (FEMA Docket No.: B-2324). | Town of Prosper, (22-06-1698P). | The Honorable David F. Bristol, Mayor, Town of Prosper, 250 West 1st Street, Prosper, TX 75078. | Town Hall, 250 West 1st Street, Prosper, TX 75078. | Jun. 22, 2023 | 480141
Collin (FEMA Docket No.: B-2334). | Unincorporated areas of Collin County, (22-06-2276P). | The Honorable Chris Hill, Collin County Judge, 2300 Bloomdale Road, Suite 4192, McKinney, TX 75071. | Collin County Engineering Department, 4690 Community Avenue, Suite 200, McKinney, TX 75071. | Jun. 26, 2023 | 480130
Dallas (FEMA Docket No.: B-2335). | City of Dallas, (22-06-2590P). | The Honorable Eric Johnson, Mayor, City of Dallas, 1500 Marilla Street, Suite 5EN, Dallas, TX 75201. | Oak Cliff Municipal Center, 320 East Jefferson Blvd. Suite 312, Dallas, TX 75203. | Jun. 20, 2023 | 480171
McLennan (FEMA Docket No.: B-2334). | City of Bellmead, (21-06-2238P). | The Honorable Travis Gibson, Mayor City of Bellmead, 3015 Bellmead Drive, Bellmead, TX 76705. | Department of Public Works, 3015 Bellmead Drive, Bellmead, TX 76705. | Jun. 12, 2023 | 480457
McLennan (FEMA Docket No.: B-2334). | City of Beverly Hills, (21-06-2238P). | Priscilla Trejo-Serrato, Acting Mayor, City of Beverly Hills, 3418 Memorial Drive, Beverly Hills, TX 76711. | City Hall, 3418 Memorial Drive, Beverly Hills, TX 76711. | Jun. 12, 2023 | 480925
McLennan (FEMA Docket No.: B-2334). | City of McGregor, (21-06-2238P). | The Honorable James S. Hering, Mayor, City of McGregor, 488 Windsor Road, McGregor, TX 76657. | Community Development Department, 302 South Madison Street, McGregor, TX 76657. | Jun. 12, 2023 | 480459
McLennan (FEMA Docket No.: B-2334). | City of Waco, (21-06-2238P). | The Honorable Dillon Meek, Mayor, City of Waco, P.O. Box 2570, Waco, TX 76702. | Public Works Department, 401 Franklin Avenue, Waco, TX 76701. | Jun. 12, 2023 | 480461
McLennan (FEMA Docket No.: B-2334). | Unincorporated areas of McLennan County, (21-06-2238P). | The Honorable Scott M. Felton, McLennan County Judge, 501 Washington Avenue, Suite 214, Waco, TX 76701. | McLennan County Engineering and Mapping Department, 215 North 5th Street, Suite 130, Waco, TX 76701. | Jun. 12, 2023 | 480456
Tarrant (FEMA Docket No.: B-2324). | City of Fort Worth, (22-06-2438P). | The Honorable Mattie Parker, Mayor, City of Fort Worth, 200 Texas Street, Fort Worth, TX 76102. | Transportation and Public Works Department, Engineering Vault, 200 Texas Street, Fort Worth, TX 76102. | Jun. 29, 2023 | 480596
Travis (FEMA Docket No.: B-2324). | Unincorporated areas of Travis County, (22-06-2228P). | The Honorable Andy Brown, Travis County Judge, P.O. Box 1748, Austin, TX 78767. | Travis County Floodplain Management Department, 700 Lavaca Street, 5th Floor, Austin, TX 78701. | Jun. 20, 2023 | 481026

[FR Doc. 2023-16144 Filed 7-28-23; 8:45 am]

BILLING CODE 9110-12-P